DEPARTMENT OF ENERGY

Federal Energy Regulatory Commission

[Docket No. CP17-41-000]

Eagle LNG Partners Jacksonville, LLC; Notice of Reopening of Comment Period

On November 16, 2018, the Commission issued a notice setting January 7, 2019, as the end of the formal period to file comments on the Jacksonville Project draft environmental impact statement. Due to the funding lapse at certain federal agencies between December 22, 2018 and January 25, 2019, the Commission is reopening the comment period until February 25, 2019.

Dated: February 7, 2019.
Kimberly D. Bose,
Secretary.

[FR Doc. 2019-02141 Filed 2-12-19; 8:45 am]

BILLING CODE 6717-01-P